DEPARTMENT OF COMMERCE

National Oceanic and Atmospheric Administration

[RTID 0648-XD972]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its Mariana Archipelago Fishery Ecosystem Plan (FEP) Guam Advisory Panel (AP), American Samoa Archipelago FEP AP, Hawaii Archipelago FEP AP, and the Mariana Archipelago FEP Commonwealth of the Northern Mariana Islands (CNMI) AP to discuss and make recommendations on fishery management issues in the Western Pacific Region.

DATES: The meetings will be held between June 4 and June 8, 2024. For specific times and agendas, see SUPPLEMENTARY INFORMATION.

ADDRESSES: The Western Pacific Fishery Management Council (Council) Mariana Archipelago Fishery Ecosystem Plan (FEP) Guam Advisory Panel (AP), American Samoa Archipelago FEP AP, Hawaii Archipelago FEP AP, and the Mariana Archipelago FEP Commonwealth of the Northern Mariana Islands (CNMI) AP meetings will be held in a hybrid format with in-person and remote participation (Webex) options available for the members and the public.

In-person attendance for Mariana Archipelago FEP Guam AP members and public will be hosted at Cliff Pointe, 304 W. O'Brien Drive, Hagatña, GU, 96910.

In-person attendance for the American Samoa Archipelago FEP AP members and public will be hosted at the Tedi of Samoa Suite 208B, P8C6+V2F, Fagotogo Village, AS, 96799.

In person attendance for Hawaii Archipelago FEP AP members and public will be hosted at the Council office, 1164 Bishop Street, Suite 1400, Honolulu, HI, 96813.

In-person attendance for Mariana Archipelago FEP CNMI AP members and public will be hosted at BRI Building Suite 205, Kopa Di Oru St., Garapan, Saipan, 96950.

Instructions for connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Contact Kitty M. Simonds, Executive Director, Western Pacific Fishery Management Council; phone: (808) 522-8220.

SUPPLEMENTARY INFORMATION: The Mariana Archipelago FEP Guam AP will meet on Tuesday, June 4, 2024, from 6 p.m. to 8 p.m.; American Samoa FEP AP will meet on Tuesday, June 4, 2024, from 5 p.m. to 7 p.m.; the Hawaii Archipelago FEP AP will meet on Friday, June 7, 2024, from 9 a.m. to 1 p.m.; and the Mariana Archipelago CNMI AP will meet on Saturday, June 8, 2024, from 10 a.m. to 1 p.m. All times listed are local island times.

Public Comment periods will be provided in the agendas. The order in which agenda items are addressed may change. The meetings will run as late as necessary to complete scheduled business.

Schedule and Agenda for the Mariana Archipelago FEP Guam AP Meeting

Tuesday, June 4, 2024, 6 p.m.-8 p.m. (Chamorro Standard Time)

1. Welcome and Introductions

2. Review of the Last Advisory Panel (AP) Recommendations and Meeting

3. Feedback From the Fleet

4. Guam Fishery Issues and Activities

A. 2024 Annual Stock Assessment and Fishery Evaluation (SAFE) Guam Module Report

B. Updates on the Guam Bottomfish Rebuilding Plan

5. National Marine Fisheries Service 2024 to 2025 Marianas Small Boat Survey

6. Updates on the Regional Data Collection Improvement Efforts

7. Other Business

8. Public Comment

9. Discussion and Recommendations

Schedule and Agenda for the American Samoa Archipelago FEP AP Meeting

Tuesday, June 4, 2024, 5 p.m.-7 p.m. (Samoa Standard Time)

1. Welcome and Introductions

2. Review of the Last AP Recommendations and Meeting

3. Feedback From the Fleet

4. American Samoa (AS) Fishery Issues and Activities

A. 2024 Annual SAFE AS Module Report

B. Status of the Pacific Remote Island Areas (PRIA) National Marine Sanctuary Proposal

C. United States Stockholder Engagement on North Pacific Striped Marlin Rebuilding Plan

5. American Samoa Marine Conservation Plan 2024 to 2026

6. Other Business

7. Public Comment

8. Discussion and Recommendations

Schedule and Agenda for the Hawaii Archipelago FEP AP Meeting

Friday, June 7, 2024, 9 a.m.-1 p.m. (Hawaii Standard Time)

1. Welcome and Introductions

2. Review of the Last AP Recommendations and Meeting

3. Feedback From the Fleet

4. Hawaii Fishery Issues and Activities

A. 2024 Annual SAFE Hawaii Module Report

B. Options for Specifying Annual Catch Limits for 2024 to 2027

C. Hawaii Small-Boat Fisheries Project Update

D. Status of the PRIA and Northwest Hawaiian Island Sanctuary Proposal

E. US Stakeholder Engagement on North Pacific Striped Marlin Rebuilding Plan

5. Biological Opinion Implementation Working Group Reports

6. Electronic Technologies Steering Committee Updates

7. Other Business

8. Public Comment

9. Discussion and Recommendation

Schedule and Agenda for the Mariana Archipelago FEP CNMI AP Meeting

Saturday, June 8, 2024, 10 a.m.-1 p.m. (Chamorro Standard Time)

1. Welcome and Introductions

2. Review of the Last AP Recommendations and Meeting

3. Feedback From the Fleet

4. CNMI Fishery Issues and Activities

A. 2024 Annual SAFE CNMI Module Report

B. Review of the Commercial Bottomfish Permit and Reporting

5. 2023-2026 CNMI Action Plan Updates

6. Other Business

7. Public Comment

8. Discussion and Recommendations

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 16, 2024.
Rey Israel Marquez,
Acting Deputy Director, Office of Sustainable Fisheries, National Marine Fisheries Service.

[FR Doc. 2024-11145 Filed 5-20-24; 8:45 am]

BILLING CODE 3510-22-P